DEPARTMENT OF EDUCATION

[Docket No. ED-2022-SCC-0138]

Agency Information Collection Activities; Comment Request; Early Childhood Longitudinal Study, Kindergarten Class of 2023-24 (ECLS-K:2024) Kindergarten and First-Grade National Data Collection and Transfer School Recruitment

AGENCY: Institute of Educational Sciences (IES), Department of Education (ED).

ACTION: Notice.

SUMMARY: In accordance with the Paperwork Reduction Act of 1995, ED is proposing a revision of a currently approved information collection request.

DATES: Interested persons are invited to submit comments on or before January 3, 2023.

ADDRESSES: To access and review all the documents related to the information collection listed in this notice, please use http://www.regulations.gov by searching the Docket ID number ED-2022-SCC-0138. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208B, Washington, DC 20202-8240.

FOR FURTHER INFORMATION CONTACT: For specific questions related to collection activities, please contact Carrie Claraday, 202-245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Early Childhood Longitudinal Study, Kindergarten Class of 2023-24 (ECLS-K:2024) Kindergarten and First-Grade National Data Collection and Transfer School Recruitment.

OMB Control Number: 1850-0750.

Type of Review: A revision of a currently approved collection.

Respondents/Affected Public: Individuals and Households.

Total Estimated Number of Annual Responses: 159,964.

Total Estimated Number of Annual Burden Hours: 110,186.

Abstract: The Early Childhood Longitudinal Study (ECLS) program, conducted by the National Center for Education Statistics (NCES) within the Institute of Education Sciences (IES) of the U.S. Department of Education (ED), draws together information from multiple sources to provide rich, descriptive data on child development, early learning, and school progress. The ECLS program studies deliver national data on children's status at birth and at various points thereafter; children's transitions to nonparental care, early care and education programs, and school; and children's experiences and growth through the elementary grades. The Early Childhood Longitudinal Study, Kindergarten Class of 2023-24 (ECLS-K:2024) is the fourth cohort in the series of early childhood longitudinal studies. The study will advance research in child development and early learning by providing a detailed and comprehensive source of current information on children's early learning and development, transitions into kindergarten and beyond, and progress through school. The ECLS-K:2024 will provide data about the population of children who will be kindergartners in the 2023-24 school year, focusing on children's early school experiences continuing through the fifth grade, and will include collection of data from parents, teachers, and school administrators, as well as direct child assessments.

The ECLS-K:2024 K-1 field test (OMB# 1850-0750 v.19-25) is currently ongoing. This current request is to conduct the ECLS-K:2024 national kindergarten and first-grade data collection activities, as well as transfer district and school recruitment. There are two phases of the kindergarten data collection. The first, the fall kindergarten round, will occur from September through November 2023, followed by an additional round, the spring kindergarten round, conducted from March through June 2024. Data collection covered under the current clearance request will then occur again in the spring of 2025, when most of the sampled students are in first grade. Prior to each of these data collection rounds are advance school contact periods, during which schools will be contacted to complete tasks in preparation for the upcoming in-person school visit.

The current submission includes survey instruments, respondent materials, and specifications for the MyECLS website for the two kindergarten rounds and the first-grade round, as well as the recruitment of transfer districts and schools. Some of these materials were previously submitted in the request to conduct the K-1 field test (OMB# 1850-0750 v.24 and v.25) and have been updated to reflect additional NCES decisions and the tasks and procedures that will be followed for national data collections. However, many of the survey instruments, respondent materials, and MyECLS website specifications will undergo further revision based on the results of the K-1 field test, available in early 2023. In addition, the spring kindergarten materials are expected to be revised further in response to the national fall kindergarten field experiences, and the spring first-grade materials are expected to be revised further in response to experiences in both national kindergarten rounds. Further, the spring surveys submitted at this time have several known errors and issues (e.g., items collecting respondent and household members' genders have not yet been updated), with needed updates forthcoming in future revision requests. All revised materials, as well as the translated materials, will be included in future revision requests including a 30D public comment period. The first of these revision requests (OMB 1850-0750 v.27) is planned for submission in April 2023.

Dated: October 31, 2022.
Stephanie Valentine,
PRA Coordinator, Strategic Collections and Clearance, Governance and Strategy Division, Office of Chief Data Officer, Office of Planning, Evaluation and Policy Development.

[FR Doc. 2022-24003 Filed 11-3-22; 8:45 am]

BILLING CODE 4000-01-P